DEPARTMENT OF DEFENSE

Office of the Secretary

[Docket ID: DoD-2023-OS-0081]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by July 15, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Assessing the Implementation and Effectiveness of DOD's Lethal Means Safety (LMS) Outreach Materials—Air Force Time-Based Prevention (TBP) KI Interviews; OMB Control Number 0704-ALAF.

Type of Request: New.

Number of Respondents: 15.

Responses per Respondent: 1.

Annual Responses: 15.

Average Burden per Response: 1 hour.

Annual Burden Hours: 15 hours.

Needs and Uses: The Deputy Secretary of Defense recently directed implementation of Service tailored LMS plans, which leverage the Defense Suicide Prevention Office's (DSPO's) LMS suite of evidence-informed tools. In accordance with guidance, and with recommendations from the Government Accountability Office to assess the efficacy of nonclinical suicide prevention efforts, DSPO aims to help the Services conduct a thorough evaluation of their LMS outreach efforts.

DSPO has contracted with the center for Naval Analyses (CNA) to assist the Services in meeting the requirements set forth in DoD Instruction 6490.16 that all suicide prevention activities are developed from a relevant evidence-base and have an evaluation capability prior to implementation. CNA, in conjunction with the participating Services (i.e., Air Force, Army, Navy, and Special Operations Command, propose an information collection covering LMS evaluation activities specific to the needs of each respective Service to assess the implementation, acceptability, and/or effect of their specific LMS activities and materials. Depending on the nature of the selected evaluation activities, study data will be collected via key informant (KI) interviews and/or a survey.

This Federal Register Notice covers the evaluation activity specific to the Air Force. The intent of the voluntary Air Force Time-Based Prevention (TBP) KI Interviews is to help the Air Force gain a better understanding of the implementation and utility of the Air Force's TBP communications and messaging, as well as barriers to implementation.

The Air Force will use the results of the KI interviews to tailor their TBP LMS activities, materials, messaging, training, and outreach efforts to maximize their effectiveness with their Servicemembers and communities.

Affected Public: Individuals or households.

Frequency: As required.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: June 5, 2024.
Aaron T. Siegel,
Alternate OSD Federal Register Liaison Officer, Department of Defense.

[FR Doc. 2024-12915 Filed 6-12-24; 8:45 am]

BILLING CODE 6001-FR-P